DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: International Buyer Program (IBP) Application and Exhibitor Data Form.

OMB Control Number: 0625-0151.

Form Number(s): ITA-4014P and ITA-4102P.

Type of Request: Regular submission.

Burden Hours: 790.

Number of Respondents: IBP Application: 130; Exhibitor Data: 2,400.

Average Hours per Response: IBP Application: 190 minutes; Exhibitor Data: 10 minutes.

Needs and Uses: Form ITA-4102P, Application, is used by IBP applicant show organizers to demonstrate (1) their experience, (2) ability to meet the special conditions of the IBP, 3) provide information about the domestic trade show such as the number of U.S. exhibitors and the percentage of net exhibit space occupied by U.S. companies vis-à-vis non-U.S. exhibitors.

The Form ITA-4014P, Exhibitor Data, is used to determine which U.S. firms are interested in meeting with international business visitors and the oversea interest of the exhibitor. The form is completed by U.S. exhibitors participating in an IBP domestic trade show and is used to list the firm and its products in an Export Interest Directory, which is made available for use by Foreign Commercial Officers in recruiting delegations of international buyers to attend an IBP show and is also distributed to IBP delegation members visiting an IBP trade show.

Affected Public: Business or other for-profit organizations.

Frequency: Annually.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue, NW., Washington, DC 20230 or via the Internet at dHynek@doc.gov.

Written comments and recommendations for the proposed information collection should be sent within 30 days of publication of this notice to Wendy L. Liberante, Fax number (202) 395-5167 or via the Internet at Wendy_L._Liberante@omb.eop.gov.

Dated: September 17, 2010.
Gwellnar Banks,
Management Analyst, Office of the Chief Information Officer.

[FR Doc. 2010-23643 Filed 9-21-10; 8:45 am]

BILLING CODE 3510-FP-P